COMMITTEE FOR PURCHASE FROM PEOPLE WHO ARE BLIND OR SEVERELY DISABLED

Procurement List; Additions; Corrections

AGENCY: Committee for Purchase From People Who Are Blind or Severely Disabled.

ACTION: Notice; corrections.

SUMMARY: The Committee for Purchase From People Who Are Blind or Severely Disabled published a document in the Federal Register of August 24, 2018, concerning a notice of additions for NSNs: 2540-00-587-2532—Tarpaulin, Green, 12′ x 17′ and 2540-01-330-8062—Tarpaulin, Tan, 12′ x 17′ to the Procurement List for the Defense Logistics Agency Land and Maritime. The document should contain “Mandatory for” and “Distribution” information. And, the document should correct the Commission Response.

Also, concerning NSNs 5180-00-NIB-0025—Tool Kit, Refrigeration, Base and 5180-00-NIB-0026—Tool Kit, Refrigeration, Individual to the Procurement List for U.S. Army Contracting Command—Warren. The document corrects “the NSNs” information and Mandatory Source of Supply.

DATES: Comments must be received on or before September 23, 2018.

FOR FURTHER INFORMATION CONTACT: Michael R. Jurkowski, Telephone: (703) 603-2117.

Correction

In the Federal Register of August 24, 2018, in FR Doc. 83, No. 165, on page 42878, in the third column, statement to read: Commission Response to Federal Register Comment:, and include Mandatory for: 100% of the requirement of the Department of Defense and Distribution: C-List.

On page 42881, in the first column, correct the NSNs to read 5180-01-666-1184—Tool Kit, Refrigeration, Base and 5180-01-666-0751—Tool, Kit Refrigeration, Individual and correct Mandatory Source of Supply to read Wiscraft, Inc., Milwaukee, WI.

Dated: August 27, 2018.
Michael R. Jurkowski,
Business Management Specialist, Business Operations.

[FR Doc. 2018-19005 Filed 8-30-18; 8:45 am]

BILLING CODE 6353-01-P